DEPARTMENT OF EDUCATION

Office of Special Education and Rehabilitative Services

Overview Information: State Vocational Rehabilitation Unit In-Service Training; Notice Inviting Applications for New Awards for Fiscal Year (FY) 2010

Catalog of Federal Domestic Assistance (CFDA) Numbers: 84.265A and 84.265B.

Dates: Applications Available: April 26, 2010.

Deadline for Transmittal of Applications: June 25, 2010.

Deadline for Intergovernmental Review: August 24, 2010.

I. Funding Opportunity Description

Purpose of Program: This program is designed to support projects for training State vocational rehabilitation (VR) unit personnel in program areas essential to the effective management of the unit's program of VR services and in skill areas that will enable personnel to improve their ability to provide VR services leading to employment outcomes for individuals with disabilities. The State VR Unit In-Service Training program responds to needs identified in the comprehensive system of personnel development (CSPD) of the State plan to address recruitment and retention of qualified rehabilitation professionals, to provide for succession planning, and to provide for leadership development and capacity building.

Priorities: In accordance with 34 CFR 75.105(b)(2)(ii), these priorities are from the regulations for this program (34 CFR 388.22). Under 34 CFR 388.21(b), the Secretary reserves funds to support some or all of the proposals that have been awarded a rating of 80 points or more under the selection criteria described in 34 CFR 388.20.

Absolute Priorities: For FY 2010 these priorities are absolute priorities. Under 34 CFR 75.105(c)(3) and 34 CFR 388.21(b), we consider for quality awards only applications that meet one or more of the following absolute priorities.

Priority 1—Development and Dissemination of Model In-Service Training Materials and Practices: The proposed project demonstrates an effective plan to develop and disseminate information on its State VR In-Service Training program, including the identification of training approaches and successful practices, in order to permit the replication of these programs by other State VR units.

Priority 2—Distance Education: The proposed project demonstrates innovative strategies for training State VR unit personnel through accessible distance education methods, such as interactive audio, video, computer technologies, or existing telecommunications networks.

Priority 3—Enhanced Employment Outcomes for Specific Populations: The proposed project supports specialized training in the provision of VR or related services to individuals with disabilities to increase the rehabilitation rate into competitive employment for all individuals or specified target groups.

Program Authority: 29 U.S.C. 721 and 772.

Applicable Regulations: (a) The Education Department General Administrative Regulations (EDGAR) in 34 CFR parts 74, 75, 77, 79, 80, 81, 82, 84, 85, 86, and 99. (b) The regulations for this program in 34 CFR parts 385 and 388.

Note: The regulations in 34 CFR part 79 apply to all applicants except federally recognized Indian tribes.

Note: The regulations in 34 CFR part 86 apply to institutions of higher education only.

II. Award Information

Type of Award: Discretionary grants.

Estimated Available Funds: The total amount of funding available for these awards in FY 2010 is $5,664,900, including $4,531,920 for basic awards (CFDA Number 84.265A) and $1,132,980 for quality awards (CFDA Number 84.265B). Basic awards are calculated annually and distributed according to staffing levels of the State agencies obtained from data on the Annual Vocational Rehabilitation Program/Cost Report (RSA-2). The total amount of basic awards is not more than 80 percent of the total available for State VR Unit In-Service Training. The minimum level of a basic award is one-third of one percent of the funds available. For FY 2010 that amount is $18,883 (34 CFR 388.21(a)(3)). Applicants must apply for the basic award and for the quality award separately.

Note: (1) The actual funding amounts for basic awards will be calculated based on the FY 2009 RSA-2 data submitted by State VR Units. (2) The Department is not bound by any estimates in this notice.

Estimated Range of Awards: $18,883-$295,000 for basic awards and $15,000-$85,000 for quality awards.

Estimated Average Size of Awards: $70,811 for basic awards and $56,649 for quality awards.

Estimated Number of Awards: 80 basic awards and 20 quality awards.

Project Period: Up to 60 months.

The following chart lists, by State agency, the estimated available funds for basic awards based on the FY 2010 funding level and the RSA-2 data for the most recent reporting period (FY 2009).

State | Estimated available funds for basic awards
Alabama | $94,020
Alaska | 18,883
American Samoa | 18,883
Arizona | 76,780
Arkansas (Blind) | 18,883
Arkansas (General) | 80,690
California | 287,571
Colorado | 39,457
Connecticut (Blind) | 18,883
Connecticut (General) | 23,461
Delaware (Blind) | 18,883
Delaware (General) | 18,883
District of Columbia | 19,551
Florida (Blind) | 44,078
Florida (General) | 153,383
Georgia | 152,317
Guam | 18,883
Hawaii | 18,883
Idaho (Blind) | 18,883
Idaho (General) | 24,527
Illinois | 96,331
Indiana | 55,452
Iowa (Blind) | 18,883
Iowa (General) | 44,611
Kansas | 34,480
Kentucky (Blind) | 18,883
Kentucky (General) | 71,271
Louisiana | 61,673
Maine (Blind) | 18,883
Maine (General) | 19,551
Maryland | 73,048
Massachusetts (Blind) | 21,150
Massachusetts (General) | 75,181
Michigan (Blind) | 18,883
Michigan (General) | 95,975
Minnesota (Blind) | 18,883
Minnesota (General) | 72,693
Mississippi | 91,532
Missouri (Blind) | 18,883
Missouri (General) | 48,699
Montana | 18,883
Nebraska (Blind) | 18,883
Nebraska (General) | 33,769
Nevada | 19,551
New Hampshire | 18,883
New Jersey (Blind) | 18,883
New Jersey (general) | 44,966
New Mexico (Blind) | 18,883
New Mexico (General) | 25,949
New York (Blind) | 24,705
New York (General) | 134,366
North Carolina (Blind) | 32,170
North Carolina (General) | 152,850
North Dakota | 18,883
Northern Mariana | 18,883
Ohio | 106,106
Oklahoma | 59,363
Oregon (Blind) | 18,883
Oregon (General) | 37,502
Pennsylvania | 199,949
Puerto Rico | 221,632
Rhode Island | 18,883
South Carolina (Blind) | 18,883
South Carolina (General) | 191,951
South Dakota (Blind) | 18,883
South Dakota (General) | 18,883
Tennessee | 99,708
Texas (Blind) | 88,511
Texas (General) | 245,626
Utah | 47,632
Vermont (Blind) | 18,883
Vermont (General) | 19,906
Virgin Islands | 18,883
Virginia (Blind) | 30,037
Virginia (General) | 115,348
Washington (Blind) | 18,883
Washington (General) | 53,142
West Virginia | 53,142
Wisconsin | 51,187
Wyoming | 18,883
Total | $4,531,920

III. Eligibility Information

1. Eligible Applicants: State agencies designated under a State plan for VR services under section 101(a) of the Rehabilitation Act of 1973, as amended (Act). Each designated State agency (DSA) is eligible to receive an award under the basic award program.

2. Cost Sharing or Matching: Grantees under the State VR Unit In-Service Training program must provide at least 10 percent of the total cost of the project (34 CFR 388.30(a)), except that under 34 CFR 388.30(b), grantees designated to receive a minimum share of one third of one percent of the sums made available for the fiscal year are required to provide at least four percent of the total costs of the project.

3. Other: Under the VR State Grants program, each State is required in its State plan to establish detailed procedures for a CSPD, including how the State will address the current and projected personnel training needs (34 CFR 361.18).

Note: Under 34 CFR 75.562(c)(1) and (4), an indirect cost reimbursement for grantees under this program is limited to the grantee's actual indirect costs, as determined by its negotiated indirect cost rate agreement.

IV. Application and Submission Information

1. Applications for Basic and Quality Awards: You must apply for the basic award and for the quality award separately, i.e., you need to complete and submit separate forms for each award, including the Application for Federal Education Assistance (SF 424), Budget Information—Non-Construction Program (ED 524), and all necessary assurances and certifications.

2. Address to Request Application Package:

ED Pubs, U.S. Department of Education, P.O. Box 22207, Alexandria, VA 22304. Telephone, toll free: 1-877-433-7827. FAX: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify this program or competition as follows: 84.265A for a basic award and 84.265B for a quality award.

Individuals with disabilities can obtain a copy of the application package in an accessible format (e.g., braille, large print, audiotape, or computer diskette) by contacting the person listed under Accessible Format in section VIII of this notice.

2. Content and Form of Application Submission: Requirements concerning the content of an application, together with the forms you must submit, are in the application package for this competition.

Page Limit: Part III of the application, the application narrative, is where you, the applicant, address the selection criteria that reviewers use to evaluate your application. You must limit Part III to the equivalent of no more than 45 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section in Part III.

We will reject your application if you exceed the page limit or if you apply other standards and exceed the equivalent of the page limit.

3. Submission Dates and Times:

Applications Available: April 26, 2010.

Deadline for Transmittal of Applications: June 25, 2010.

Applications for grants under this competition must be submitted electronically using the Electronic Grant Application System (e-Application) accessible through the Department's e-Grants site. For information (including dates and times) about how to submit your application electronically, or in paper format by mail or hand delivery if you qualify for an exception to the electronic submission requirement, please refer to section IV.6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 24, 2010.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements:

Applications for grants under this program must be submitted electronically unless you qualify for an exception to this requirement in accordance with the instructions in this section.

a. Electronic Submission of Applications.

Applications for grants under State Vocational Rehabilitation Unit In-Service Training—CFDA Number 84.265A for basic award and 84.265B for quality award must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

• You must complete the electronic submission of your grant application by 4:30:00 p.m., Washington, DC time, on the application deadline date. E-Application will not accept an application for this program after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

Please note the following: (1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through the e-Application system because—

• You do not have access to the Internet; or

• You do not have the capacity to upload large documents to e-Application;

and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Douglas Zhu, U.S. Department of Education, 400 Maryland Avenue, SW., room 5029, Potomac Center Plaza (PCP), Washington, DC 20202-2800. Fax: (202) 245-6824.

Your paper application must be submitted in accordance with the mail or hand delivery instructions described in this notice.

b. Submission of Paper Applications by Mail.

If you qualify for any exception to the electronic submission requirement, you may mail (through the U.S. Postal Service or a commercial carrier) your application to the Department. You must mail the original and two copies of your application, on or before the application deadline date, to the Department at the following address: U.S. Department of Education, Application Control Center, Attention: (CFDA Number 84.265A or 84.265B), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.265A or 84.265B), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including the suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this competition are from 34 CFR 75.210 and 34 CFR 388.20. The selection criteria for this competition are in the application package.

2. Review and Selection Process: The procedures used for reviewing and selecting applications for an award are in 34 CFR 75.210 and 34 CFR 388.20. Additional factors we consider in selecting an application for an award include: (a) the geographical distribution of projects; and (b) the past performance of the applicant in carrying out similar training activities under previously awarded grants, as indicated by factors such as compliance with grant conditions, soundness of programmatic and financial management practices, and attainment of established project objectives (34 CFR 385.33(a) and (b)).

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary under 34 CFR 75.118. The Secretary may also require more frequent performance reports under 34 CFR 75.720(c). For specific requirements on reporting, please go to http://www.ed.gov/fund/grant/apply/appforms/appforms.html.

4. Performance Measures: The Government Performance and Results Act (GPRA) of 1993 directs Federal departments and agencies to improve the effectiveness of their programs by engaging in strategic planning, setting outcome-related goals for programs, and measuring program results against those goals. The primary objective of the State VR Unit In-Service Training program is to maintain and upgrade the knowledge and skills of personnel currently employed by State VR agencies. Grantees must provide training that responds to the needs identified in the CSPD as required by section 101(a)(7) of the Act.

In order to measure the success of the State VR Unit In-Service Training program grantees in meeting this objective, State VR agencies are required to submit performance data through the in-service annual performance report and their State plans. At a minimum, the annual performance report must include data on the percentage of currently employed State VR agency counselors who meet their States' CSPD standards.

VII. Agency Contact

For Further Information Contact: Douglas Zhu, U.S. Department of Education, 400 Maryland Avenue, SW., room 5029, PCP, Washington, DC 20202-2800. Telephone: (202) 245-6037 or via Internet: douglas.zhu@ed.gov.

If you use a TDD, call the Federal Relay Services (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: April 21, 2010.
Alexa Posny,
Assistant Secretary for Special Education and Rehabilitative Services.

[FR Doc. 2010-9644 Filed 4-23-10; 8:45 am]

BILLING CODE 4000-01-P